DEPARTMENT OF DEFENSE

Office of the Secretary

[Docket ID DoD-2013-OS-0090]

Notice of Availability for Sharpe Permit Relinquishment Project Environmental Assessment Finding of No Significant Impact

AGENCY: Defense Logistics Agency, DoD.

ACTION: Notice of Availability (NOA) for Sharpe Permit Relinquishment Project Environmental Assessment (EA) Finding of No Significant Impact (FONSI).

SUMMARY: On April 30, 2013, Defense Logistics Agency (DLA) published a NOA in the Federal Register (78 FR 25258-25259) announcing the publication of the Sharpe Permit Relinquishment Project EA. The EA was available for a 30-day public comment period which ended May 30, 2013. The EA was prepared as required under the National Environmental Policy Act (NEPA) of 1969 (42 U.S.C. 4331 et seq.). No comments were received during the comment period. This FONSI documents the decision of DLA to relinquish the permit for use and occupancy of the Sharpe Army Depot, currently known as Defense Distribution Depot San Joaquin, California—Sharpe (Sharpe Site) with a determination that no significant impacts on the human environment are associated with this decision.

FOR FURTHER INFORMATION CONTACT: Defense Distribution Depot San Joaquin, California—Sharpe Public Affairs Office, P.O. Box 960001, Stockton, CA 95296-0001, ATTN: Sharpe Permit Relinquishment Project. (209) 839-4226. DDJCPublicAffairsOffice@dla.mil.

SUPPLEMENTARY INFORMATION: DLA has occupied the Sharpe Site since 1990 under a Memorandum of Agreement with the U.S. Department of the Army (Army). DLA is proposing to move its operations from the Sharpe Site to its Defense Distribution Depot San Joaquin, California—Tracy (Tracy Site). Currently, DLA has co-existing operations at both facilities. Consolidation of operations at one facility would increase efficiency of DLA operations by reducing redundancies, thereby reducing operational costs.

Purpose and Need for Action: The purpose of the Sharpe Permit Relinquishment Project is to return the land and improvements at the Sharpe Site to the Army as DLA has proposed consolidation of its operations from the Sharpe Site to its nearby Tracy Site. Consolidation of the operations into one facility increases efficiency of DLA operations and reduces operational costs. The consolidation would not substantially alter other non-DLA operations at the Sharpe site and the federal government will continue ongoing environmental restoration efforts at the Sharpe Site following the permit relinquishment.

Proposed Action and Alternatives: Under the proposed action, DLA would relinquish occupancy and use of the property and return the Sharpe Site to the Army who owns the land and the improvements thereon. DLA wants to consolidate activities currently performed at the Sharpe Site to its existing facilities at the Tracy Site and potentially other DLA facilities. Land and improvements associated with the property would be conveyed back to the Army. The Army would assume all management responsibilities associated with the property. No new construction or ground disturbing activities at the Tracy Site would result from the proposed action. As an alternative to the proposed action, DLA considered taking no action. The no action alternative would have maintained existing conditions through continued occupancy and use of the facility by DLA. Under this alternative, the Army would not resume occupancy and use of the property and DLA would continue to operate the facility until the conclusion of its current permit on April 11, 2020. The no action alternative would not satisfy the project's purpose and need; however, the alternative was included in the environmental analysis to provide a baseline for comparison with the proposed action and was analyzed in accordance with Council on Environmental Quality regulations for implementing NEPA.

An additional alternative was considered, but eliminated from further consideration. This alternative included relocating Sharpe operations to a nearby commercially available site. This alternative was dismissed from further consideration because there would be additional security risks associated with operations conducted at non-secured facilities, as well as additional operational costs.

Potential Environmental Impacts: Potential environmental impacts of the proposed action have been assessed and compared to the impacts of the no action alternative. The proposed action is expected to have the following impacts:

• Minor short-term adverse impacts to air quality, noise, and traffic during the transportation of supplies and materials from the Sharpe Site to other DLA facilities.

• A reduction in traffic at the Sharpe Site, which would lessen potential traffic-related affects to burrowing owls with a long-term negligible beneficial impact on the biological resources at the Sharpe Site.

• A reduction in the work force at the Sharpe Site and an increased work force at the Tracy Site. As such, there would be a long-term negligible adverse impact on the socioeconomic resources on the local Lathrop area and a long-term negligible beneficial impact on the socioeconomic resources on the local Tracy area.

• A temporary increase in economic activities resulting in a short-term and negligible economic beneficial impact for the local economies.

Determination: DLA has determined that implementation of the proposed action will not have a significant effect on the human environment. Human environment was interpreted comprehensively to include the natural and physical environment and the relationship of people with that environment. Specifically, no highly uncertain or controversial impacts, unique or unknown risks, or cumulatively significant effects were identified. Implementation of the proposed action will not result in the loss or destruction of significant scientific, cultural, or historic resources and implementation of the proposed action will not violate any federal, state, or local laws. Based on the results of the analyses performed during the preparation of the environmental assessment, David Rodriquez, Director, DLA Installation Support, concludes the proposed action to relinquish the permit to use and occupy the Sharpe site does not constitute a major federal action significantly affecting the quality of the human environment within the context of the NEPA. Therefore, an environmental impact statement for the proposed action is not required.

Dated: July 16, 2013.
Aaron Siegel,
Alternate OSD Federal Register Liaison Officer, Department of Defense.

[FR Doc. 2013-17377 Filed 7-18-13; 8:45 am]

BILLING CODE 5001-06-P